DEPARTMENT OF VETERANS AFFAIRS

Privacy Act of 1974; Amendment of System of Records

AGENCY: Department of Veterans Affairs.

ACTION: Notice.

Notice is hereby given that the Department of Veterans Affairs (VA) is revising an existing routine use to the system of records entitled “Personnel and Accounting Pay System-VA” (27VA047) as set forth in the Federal Register 40 FR 38095 (8/26/75) and amended in 48 FR 16372 (4/15/83), 50 FR 23009 (5/30/85), 51 FR 6858 (2/26/86), 51 FR 25968 (7/17/86), 55 FR 42534 (10/19/90), 56 FR 23952 (5/24/91), 58 FR 39088 (7/21/93), 58 FR 40852 (7/30/93), 60 FR 35448 (7/7/95), 62 FR 41483 (8/1/97), 62 FR 68362 (12/31/97), and 65 FR 20850 (4/18/00). This system of records contains information on current and former salaried VA employees.

The Federal Labor Relations Authority (FLRA) was established in accordance with 5 U.S.C. 7104. The FLRA's powers and duties are outlined in 5 U.S.C. 7105. These include the investigation and resolution of allegations of unfair labor practices, exceptions to arbitrator awards when a question of material fact is raised, and matters before the Federal Service Impasses Panel. The FLRA also investigates representation petitions and conducts or supervises representation elections. The FLRA's purpose, scope, powers, and duties are also set forth in Subchapter C of Title 5 of the Code of Federal Regulations (CFR). As part of its powers and duties, the FLRA may make any appropriate inquiry to carry out its duties. The FLRA has the authority to request certain information, including employee names and home addresses, in connection with its investigations and other activities. Employee's home addresses are necessary information for FLRA investigation of elections where the elections are by mail ballot, rather than by on-site election.

The Privacy Act (5 U.S.C. 552a) requires any records under the control of a federal agency from which information is retrieved by the name of an individual, or by some identifying number, symbol, or other identifying particular assigned to an individual, to be grouped in a system of records. Information cannot be released from a Privacy Act system of records without the individual's consent, unless an exception applies or a routine use for the release of the information is developed for the system of records.

The VA Office of General Counsel has determined that release of information to FLRA from Privacy Act system of records “Personnel and Accounting Pay System-VA” (27VA047), including the names and home addresses of employees, is necessary to comply with the statutory mandate under which FLRA operates. It has also been determined that the release of information for this purpose is a necessary and proper use of the information in this system of records and the addition of the new routine use number 33 for transfer of this information is appropriate.

An altered system of records report and a copy of the revised system notice have been sent to the House of Representatives Committee on Government Reform, the Senate Committee on Governmental Affairs, and the Office of Management and Budget (OMB) as required by 5 U.S.C. 552a(r) and guidelines issued by OMB (59 FR 37906, 37916-18 (7/25/94)).

Interested persons are invited to submit written comments, suggestions, or objections regarding the proposed routine use of the system of records to the Director, Office of Regulations Management (02D), Department of Veterans Affairs, 810 Vermont Avenue, NW, Room 1154, Washington, DC 20420. All relevant material received before August 16, 2000, will be considered. All written comments received will be available for public inspection at the above address in the Office of Regulations Management, Room 1158, between the hours of 8 a.m. and 4:30 p.m., Monday through Friday, except holidays.

If no public comment is received during the 30-day review period allowed for public comment, or unless otherwise published in the Federal Register by VA, the new routine use statement is effective August 16, 2000.

Approved: June 29, 2000.
Togo D. West, Jr.,
Secretary of Veterans Affairs.

Notice of Amendment to System of Records

In the system of records identified as 27VA047, “Personnel and Accounting Pay System-VA,” as set forth in the Federal Register 40 FR 38095 (8/26/75) and amended in 48 FR 16372 (4/15/83), 50 FR 23009 (5/30/85), 51 FR 6858 (2/26/86), 51 FR 25968 (7/17/86), 55 FR 42534 (10/19/90), 56 FR 23952 (5/24/91), 58 FR 39088 (7/21/93), 58 FR 40852 (7/30/93), 60 FR 35448 (7/7/95), 62 FR 41483 (8/1/97), 62 FR 68362 (12/31/97), and 65 FR 20850 (4/18/00) the system is amended as follows:

* * * * *

Routine uses of records maintained in the system, including categories of users and the purpose of such uses:

* * * * *

33. To disclose information to the Federal Labor Relations Authority (including its General Counsel) when requested in connection with the investigation and resolution of allegations of unfair labor practices, in connection with the resolution of exceptions to arbitrator awards when a question of material fact is raised, in connection with matters before the Federal Service Impasses Panel, and to investigate representation petitions and conduct or supervise representation elections.

* * * * *

[FR Doc. 00-17973 Filed 7-14-00; 8:45 am]

BILLING CODE 8320-01-M